NATIONAL SCIENCE FOUNDATION

National Artificial Intelligence Research Resource Task Force; Notice of Meeting

In accordance with the Federal Advisory Committee Act (Pub. L. 92-463, as amended), the National Science Foundation (NSF) announces the following meeting:

Name and Committee Code: National Artificial Intelligence Research Resource Task Force (84629) (Virtual).

Date and Time: August 30, 2021, 11:00 a.m. to 5:00 p.m. EDT.

Place: NSF, 2415 Eisenhower Avenue, Alexandria, VA 22314; Virtual meeting.

To attend the virtual meeting, please send your request for the virtual meeting link to the following email: cmessam@nsf.gov.

Type of Meeting: Open.

Contact Person: Brenda Williams, National Science Foundation, 2415 Eisenhower Avenue, Alexandria, VA 22314; Telephone: 703-292-8900; email: bwilliam@nsf.gov.

Purpose Of Meeting: The Task Force shall investigate the feasibility and advisability of establishing and sustaining a National Artificial Intelligence Research Resource; and propose a roadmap detailing how such resource should be established and sustained.

Agenda: In this meeting, the Task Force will discuss (i) the goals, anticipated outcomes, and evaluation metrics of the National Artificial Intelligence Research Resource; (ii) ownership, administration, and governance models; and (iii) the range of computer capabilities that will form a key element of the resource.

Dated: July 30, 2021.
Crystal Robinson,
Committee Management Officer.

[FR Doc. 2021-16566 Filed 8-3-21; 8:45 am]

BILLING CODE 7555-01-P